DEPARTMENT OF HEALTH AND HUMAN SERVICES

Centers for Disease Control and Prevention

[60-Day-14-14DF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Sexually Transmitted Disease Services at US Colleges and Universities: Where are we now?—New—National Center for HIV/AIDS, Viral Hepatitis, STD and TB Prevention (NCHHSTP), Centers for Disease Control and Prevention (CDC).

Background and Brief Description

Approximately 43% of the over 30 million 18-24 year olds in the United States are currently enrolled in college or graduate school. These institutions comprise a mix of 2-year and 4-year colleges, public and private institutions, technical schools, and community colleges. In the U.S., young adulthood is the peak age group for many risk behaviors including unprotected sex. College students, who are typically at the age of most risk for acquiring a sexually transmitted disease (STD), may face challenges when seeking sexual and reproductive health care on campus.

The last national study exploring the availability of STD services in US colleges and universities (2- and 4-year) was conducted in 2001 and found that only 60% (474/736) of schools had a health center. Health centers were more common among larger schools (greater than 4,000 students) that were privately funded and 4-year universities with housing. Of the health centers provided, 66% provided STD services, 55% provided obstetrical and gynecologic care, and 54% provided contraceptive services.

National Survey of Family Growth (NSFG) data estimates that the percentage of 18- to 22-year-olds ever tested for HIV is 34.2%; and only 18% reported being tested in the past year. Although risk factors for HIV/STD transmission (e.g., sex with multiple partners, unprotected sex, and using drugs or alcohol during sexual activity) can be particularly evident among college students in general, students enrolled at colleges with significant minority enrollment (SMEs) may face additional challenges such as greater risk of transmission during new sexual encounters due to sexual partner networks and limited access to quality healthcare and prevention education. Given this information, there is a great deal of opportunity for expanding access to care, especially among schools which are unable to offer student health services on campus. Many schools, including both 2- and 4-year schools, may find it more difficult to offer student health services because of constrained budgets or geographical location. Depending on location, some may serve a disproportionate number of students from low socio-economic backgrounds which means, in general, their students are more likely to be un- or underinsured or to be Medicaid eligible.

CDC is proposing this information collection to (1) provide an estimate of the proportion of colleges not offering health services on campus, (2) explore the reasons as to why, and (3) describe the current extent of US colleges and universities provisions of health services in regards to HIV/STD education, prevention and treatment. The information will be used to provide technical assistance to colleges and universities interested in alternative solutions for providing health care services to their students.

The list of eligible respondents comes from the Integrated Postsecondary Education Data System (IPEDS), using 2011 enrollment data. Applying our criteria to include only active, 2- or 4-year, degree granting, accredited public or not for profit private schools, that enrolled undergraduates and/or graduate students located in the 50 states and the District of Columbia our total population was 3,337 schools. From these we selected a proportionally stratified random sample of universities and colleges to survey on their provision of health services as they relate to HIV & STD education, treatment and prevention.

The stratified random sample was based on enrollment size of school and significant minority enrollment. Sample size calculation also accounted for an expected low response rate (30%) of first time, online survey participants. The total number of colleges and universities to be surveyed will be 1,150.

Enrollment size was coded based on enrollment number variables in the IPEDS dataset. Significant minority enrollment is based on two criteria: 1) Legislation that designates colleges and universities as Historically Black Colleges and Universities (HBCUs) or as Tribal Colleges and Universities (TCUs). 2) Enrollment-based criteria—Colleges and Universities that are not HBCUs or TCUs, and have at least 25% of the student body that is of an ethnic minority (American Indian or Alaska Native, Asian, Black, Hispanic, Native Hawaiian or other Pacific Islander, mixed race, or those that do not meet the 25% threshold for any one minority group, but minority students as a whole comprised at least 50% of the total student body.

CDC investigators will email an introductory letter inviting the contact person at each school to participate in the survey, noting that the questionnaire should be completed by the person with the most knowledge and access to information about health services on campus. The estimated burden per respondent is approximately 45 minutes; 5 minutes for the introductory letter and 40 minutes for the questionnaire. The questionnaire will collect information regarding various aspects of health services provided by the school. These include requirements for student health insurance, preventive services, testing and treatment of HIV and STDs, partner management, and accessibility of health services by students.

After reading and agreeing to terms outlined in the email letter, the participant will click the included link to the self-administered electronic questionnaire (via SurveyMonkey). Privacy risks are minimal. Only the name, title and contact information of the person filling out the survey will be obtained for the purpose of tracking participation and completion of questionnaires. All electronic files will be password controlled, accessible only to fully authorized personnel, and maintained and protected to the extent allowable by law. Schools will have 3 weeks to respond to the survey. Investigators will send a reminder at 1.5 weeks, 3 days prior to closeout, and then day of. This may need to be extended in order to achieve adequate power for analyses.

Once all the surveys are returned, two researchers will review and contact schools about inconsistent or invalid responses, and make corrections as needed. Basic school characteristics will be gathered from the IPEDs database on each school (e.g. institution type, funding type, size of enrollments, region, etc.). We estimate 4-5 months will be needed to complete data collection.

The total estimated time frame for the project, including administration of the survey, collection period, data analysis and writing, clearance and publication of findings is 9-12 months. The results and findings will be written for publication in a peer-reviewed journal and an aggregated, summary report will be shared with all participating schools. This data collection effort will also allow investigators to provide technical assistance to colleges and universities interested in alternative solutions for providing health care services to their students.

Participation is voluntary and there are no costs to respondents other than their time.

Estimated Annualized Burden Hours
Type of respondents | Form name | Number of respondents | Number of responses per respondent | Avg. burden per response (in hrs.) | Total burden (in hrs.)
Health Services Directors or Campus Administrators | Web-based survey | 1,150 | 1 | 40/60 | 767
Health Services Directors or Campus Administrators | Introductory E-mail letter | 1,150 | 1 | 5/60 | 96
Total |  |  |  |  | 863

LeRoy Richardson,
Chief, Information Collection Review Office, Office of Scientific Integrity, Office of the Associate Director for Science, Office of the Director, Centers for Disease Control and Prevention.

[FR Doc. 2013-28855 Filed 12-2-13; 8:45 am]

BILLING CODE 4163-18-P